NATIONAL SCIENCE FOUNDATION

Advisory Committee for Mathematical and Physical Sciences; Notice of Meeting

In accordance with Federal Advisory Committee Act (Pub. L. 92-463, as amended), the National Science Foundation announces the following meeting:

Name: Directorate for Mathematical and Physical Sciences Advisory Committee (#66).

Date/Time: November 3, 2010 2 p.m.-4 p.m.

November 4, 2010 8 a.m.-6 p.m.

November 5, 2010 8 a.m.-3 p.m.

Place: National Science Foundation, 4201 Wilson Boulevard, Arlington, VA 22230:

November 5, Room 1005.

November 6, Room 1235.

November 7, Room 1235.

Type of Meeting: Open.

Contact Person for More Information: Dr. Morris L. Aizenman, Senior Science Associate, Directorate for Mathematical and Physical Sciences, Room 1005, National Science Foundation, 4201 Wilson Boulevard, Arlington, VA 22230, (703) 292-8807.

Purpose of Meeting: To provide advice and recommendations concerning NSF science and education activities within the Directorate for Mathematical and Physical Sciences.

Agenda: Briefing to new members about NSF and Directorate (11/3).

Update on current status of Directorate.

Reports from liaisons with other Advisory Committees.

Meeting of MPSAC with Divisions within MPS Directorate.

Discussion of MPS Long-term Planning Areas.

Summary Minutes: May be obtained from the contact person listed above.

Dated: October 7, 2010.
Susanne E. Bolton,
Committee Management Officer.

[FR Doc. 2010-25685 Filed 10-12-10; 8:45 am]

BILLING CODE 7555-01-P